DEPARTMENT OF ENERGY

Federal Energy Regulatory Commission

[Project No. 1494-300—OK]

Grand River Dam Authority (GRDA); Notice of Availability of Draft Environmental Assessment

April 2, 2007.

In accordance with the National Environmental Policy Act of 1969 and the Federal Energy Regulatory Commission's regulations, 18 CFR Part 380 (Order No. 486, 52 FR 47879), the Office of Energy Projects reviewed the application for non-project use of project lands and waters for the Pensacola Hydroelectric Project, located on the Grand (Neosho) River in Craig, Delaware, Mayes, and Ottawa Counties, Oklahoma, and has prepared a Draft Environmental Assessment (DEA).

A copy of the DEA is on file with the Commission and is available for public inspection. The DEA may also be viewed on the Commission's Web site at http://www.ferc.gov using the “eLibrary” link. Enter the docket number (P-1494) excluding the last three digits in the docket number field to access the document. For assistance, contact FERC Online Support at FERCOnlineSupport@ferc.gov or toll-free at 1-866-208-3676, or for TTY, (202) 502-8659.

Any comments should be filed by May 1, 2007, and should be addressed to the Secretary, Federal Energy Regulatory Commission, 888 First Street, NE., Room 1-A, Washington, DC 20426. Please reference the project name and project number (P-1494) on all comments. Comments may be filed electronically via Internet in lieu of paper. The Commission strongly encourages electronic filings. See 18 CFR 385.2001(a)(1)(iii) and the instructions on the Commission's Web site under the “eFiling” link. For further information, contact Lesley Kordella at (202) 502-6406.

Philis J. Posey,
Acting Secretary.

[FR Doc. E7-6442 Filed 4-5-07; 8:45 am]

BILLING CODE 6717-01-P